DEPARTMENT OF COMMERCE

National Institute of Standards and Technology

Notice of Inventions Available for Licensing

AGENCY: National Institute of Standards and Technology, Commerce.

SUMMARY: The inventions listed below are owned in whole or in part by the U.S. Government, as represented by the Secretary of Commerce. The U.S. Government's interest in these inventions is available for licensing in accordance with 35 U.S.C. 207 and 37 CFR Part 404 to achieve expeditious commercialization of results of federally funded research and development.

FOR FURTHER INFORMATION CONTACT: Technical and licensing information on these inventions may be obtained by writing to: National Institute of Standards and Technology, Office of Technology Partnerships, Attn: Mary Clague, Building 222, Room A240, Gaithersburg, MD 20899. Information is also available via telephone: 301-975-4188, fax 301-975-3482, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The inventions available for licensing are:

[NIST Docket Number: 07-002]

Title: Zero Order Overly Targets.

Abstract: This invention consists of a method and target design for overlay measurements using optical methods. The key is twofold. One aspect is to allow optical overlay measurements using device-sized dimensions and very dense targets while at the same time using only conventional image based methods. The other aspect is to enable a magnification of the actual overlay by factors of 10 or 20, for example, based on the relative values of the to be described pitch. That is, a 2 nm actual overlay offset can yield a 20 run or 40 nm offset in the reflected signal. The new target designs are unique for overlay and provide a new and revolutionary technique for overlay measurements using overlaid dense structures. This technique has no immediate limitation on feature size and density and in fact very dense features will perform well using this technique.

[NIST Docket Number: 08-002]

Title: Design Modifications and Attachment to the Home Lift Position and Rehabilitation (HLPR) Chair.

Abstract: This invention is owned in whole by the U.S. Government. The invention provides a number of improvements to the original NIST Home Lift Position and Rehabilitation (HLPR) Chair. The HLPR Chair provides lift and mobility capabilities to those dependent on wheelchairs not otherwise available and greatly reduces reliance on healthcare workers to assist in moving a patient to/from the toilet, bed, or rehabilitation.

Dated: February 4, 2009.
Patrick Gallagher,
Deputy Director.

[FR Doc. E9-2759 Filed 2-9-09; 8:45 am]

BILLING CODE 3510-13-P